DEPARTMENT OF ENERGY

Federal Energy Regulatory Commission

Combined Notice of Filings #1

Take notice that the Commission received the following electric corporate filings:

Docket Numbers: EC11-112-002.

Applicants: SOLA LTD, Solus Alternative Asset Management LP.

Description: Request for Extension of Existing Blanket Authorization under Section 203(a)(1) of the Federal Power Act of SOLA LTD, et. al.

Filed Date: 9/19/17.

Accession Number: 20170919-5177.

Comments Due: 5 p.m. ET 10/10/17.

Docket Numbers: EC17-185-000.

Applicants: GenOn Energy, Inc.

Description: Application of GenOn Energy, Inc. and its Public Utility Subsidiaries for Approval under Section 203 of the Federal Power Act and Request for Expedited Action.

Filed Date: 9/19/17.

Accession Number: 20170919-5165.

Comments Due: 5 p.m. ET 10/10/17.

Take notice that the Commission received the following exempt wholesale generator filings:

Docket Numbers: EG17-156-000.

Applicants: Solar Star Oregon II, LLC.

Description: Self-Certification of EWG Status of Solar Star Oregon II, LLC.

Filed Date: 9/20/17.

Accession Number: 20170920-5049.

Comments Due: 5 p.m. ET 10/11/17.

Take notice that the Commission received the following electric rate filings:

Docket Numbers: ER17-1721-002.

Applicants: Dynegy Stuart, LLC.

Description: Tariff Amendment: Response to Second Deficiency Letter to be effective 8/1/2017.

Filed Date: 9/20/17.

Accession Number: 20170920-5076.

Comments Due: 5 p.m. ET 10/11/17.

Docket Numbers: ER17-1722-002.

Applicants: Dynegy Zimmer, LLC.

Description: Tariff Amendment: Response to Second Deficiency Letter to be effective 8/1/2017.

Filed Date: 9/20/17.

Accession Number: 20170920-5077.

Comments Due: 5 p.m. ET 10/11/17.

Docket Numbers: ER17-2469-001.

Applicants: The Dayton Power and Light Company.

Description: Tariff Amendment: DP&L Revised Reactive Power Tariff Cancellation Filing to be effective 10/1/2017.

Filed Date: 9/20/17.

Accession Number: 20170920-5069.

Comments Due: 5 p.m. ET 9/27/17.

Docket Numbers: ER17-2513-000.

Applicants: Public Service Company of New Mexico.

Description: § 205(d) Rate Filing: Modifications to Rate Schedule No. 144 ? SJPPA New Exit Date Amendment to be effective 12/31/9998.

Filed Date: 9/19/17.

Accession Number: 20170919-5099.

Comments Due: 5 p.m. ET 10/10/17.

Docket Numbers: ER17-2514-000.

Applicants: ISO New England Inc., New England Power Pool Participants Committee.

Description: § 205(d) Rate Filing: Update to List of Qualified Transmission Project Sponsors to be effective 11/20/2017.

Filed Date: 9/20/17.

Accession Number: 20170920-5052.

Comments Due: 5 p.m. ET 10/11/17.

Docket Numbers: ER17-2515-000.

Applicants: Chambers Cogeneration, Limited Partnership.

Description: Baseline eTariff Filing: Reactive Power Tariff Application to be effective 11/1/2017.

Filed Date: 9/20/17.

Accession Number: 20170920-5066.

Comments Due: 5 p.m. ET 10/11/17.

Docket Numbers: ER17-2516-000.

Applicants: Imperial Valley Solar 3, LLC.

Description: Baseline eTariff Filing: Imperial Valley Solar 3, LLC Co-Tenancy and Shared Facilities Agreement to be effective 9/21/2017.

Filed Date: 9/20/17.

Accession Number: 20170920-5068.

Comments Due: 5 p.m. ET 10/11/17.

Docket Numbers: ER17-2517-000.

Applicants: Northern States Power Company, a Minnesota corporation.

Description: Notice of Cancellation of Operating Agreement (Supp. 17 to RS 485) of Northern States Power Company, a Minnesota corporation.

Filed Date: 9/20/17.

Accession Number: 20170920-5081.

Comments Due: 5 p.m. ET 10/11/17.

Docket Numbers: ER17-2518-000.

Applicants: Nevada Power Company.

Description: § 205(d) Rate Filing: Rate Schedule No. 156 NPC Concurrence NSTS RS 156 092017 to be effective 9/21/2017.

Filed Date: 9/20/17.

Accession Number: 20170920-5082.

Comments Due: 5 p.m. ET 10/11/17.

Docket Numbers: ER17-2519-000.

Applicants: Nevada Power Company.

Description: § 205(d) Rate Filing: Rate Schedule No. 157 NPC Concurrence Morgan RS 157 092017 to be effective 9/21/2017.

Filed Date: 9/20/17.

Accession Number: 20170920-5083.

Comments Due: 5 p.m. ET 10/11/17.

Docket Numbers: ER17-2521-000.

Applicants: PacifiCorp.

Description: Notice of Termination of Rate Schedule No. 147 of PacifiCorp.

Filed Date: 9/20/17.

Accession Number: 20170920-5086.

Comments Due: 5 p.m. ET 10/11/17.

Docket Numbers: ER17-2522-000.

Applicants: ISO New England Inc., New England Power Pool Participants Committee.

Description: § 205(d) Rate Filing: Clean-Up Amendments; Amendment to Data-Only Participant Application Fee to be effective 9/20/2017.

Filed Date: 9/20/17.

Accession Number: 20170920-5087.

Comments Due: 5 p.m. ET 10/11/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2017.
Nathaniel J. Davis, Sr.,
Deputy Secretary.

[FR Doc. 2017-20556 Filed 9-25-17; 8:45 am]

BILLING CODE 6717-01-P